DEPARTMENT OF COMMERCE

National Oceanic and Atmospheric Administration

[I.D. 021705B]

Marine Mammals; File Nos. 594-1759 and 633-1763

AGENCY: National Marine Fisheries Service (NMFS), National Oceanic and Atmospheric Administration (NOAA), Commerce.

ACTION: Receipt of applications.

SUMMARY: Notice is hereby given that the following institutions have applied in due form for permits to conduct scientific research on marine mammals: Georgia Department of Natural Resources, Wildlife Resources Division, Nongame-Endangered Wildlife Program, Coastal Office, Brunswick, GA (File No. 594-1759) and the Center for Coastal Studies, Provincetown, MA (File No. 633-1763).

DATES: Written, telefaxed, or e-mail comments must be received on or before March 28, 2005.

ADDRESSES: The applications and related documents are available for review upon request or by appointment in the following office(s):

All documents: Permits, Conservation and Education Division, Office of Protected Resources, NMFS, 1315 East-West Highway, Room 13705, Silver Spring, MD 20910; phone (301)713-2289; fax (301)713-0376;

File No. 633-1763: Northeast Region, NMFS, One Blackburn Drive, Gloucester, MA 01930-2298; phone (978)281-9200; fax (978)281-9371; and

File Nos. 594-1759 and 633-1763: Southeast Region, NMFS, 9721 Executive Center Drive North, St. Petersburg, FL 33702-2432; phone (727)570-5301; fax (727)570-5320.

Written comments or requests for a public hearing on these applications should be mailed to the Chief, Permits, Conservation and Education Division, F/PR1, Office of Protected Resources, NMFS, 1315 East-West Highway, Room 13705, Silver Spring, MD 20910. Those individuals requesting a hearing should set forth the specific reasons why a hearing on the particular request would be appropriate.

Comments may also be submitted by facsimile to (301)713-0376, provided the facsimile is confirmed by hard copy submitted by mail and postmarked no later than the closing date of the comment period.

Additionally, comments may be submitted by e-mail. The mailbox address for providing email comments is NMFS.Pr1Comments@noaa.gov. Please include the appropriate File No. (594-1759 or 633-1763) as a document identifier in the subject line of the e-mail comment.

FOR FURTHER INFORMATION CONTACT: Dr. Tammy Adams or Carrie Hubard at (301)713-2289.

SUPPLEMENTARY INFORMATION: The subject permits are requested under the authority of the Marine Mammal Protection Act of 1972, as amended (MMPA; 16 U.S.C. 1361 et seq.), the Regulations Governing the Taking and Importing of Marine Mammals (50 CFR part 216), the Endangered Species Act of 1973, as amended (ESA; 16 U.S.C. 1531 et seq.), and the regulations governing the taking, importing, and exporting of endangered and threatened species (50 CFR 222-226).

File No. 594-1759: The applicant requests a 5-year permit for aerial surveys, including associated photo-identification, behavioral observation and incidental harassment of North Atlantic right whales (Eubalaena glacialis) in Atlantic waters off Virginia, North Carolina, South Carolina, Georgia, and Florida and Gulf of Mexico waters off Florida and Alabama. Data will be used to (1) reduce potential for ship collisions via the Early Warning System, (2) improve knowledge of right whale habitat utilization, (3) maintain photo-id catalog, (4) monitor annual reproductive success, and (5) implement programs for population monitoring

File No. 633-1763: The applicant requests a 5-year permit to conduct aerial and vessel surveys, photo-identification, behavioral observation, collection and export of sloughed skin, and incidental harassment of North Atlantic right whales in waters of the Gulf of Maine, Cape Cod Bay, Great South Channel, and Georgia Bight. Surveys will be conducted to investigate population parameters, habitat use and conflicts with human activities, and to develop a multi-dimensional foraging/ecosystem model. Data will also be provided to management agencies, including NMFS and the Massachusetts Division of Marine Fisheries. The CCS application also requests permission for biopsy sampling of right whales for genetic analyses. NMFS is deferring a decision on a permit for that biopsy sampling pending further environmental analyses under the National Environmental Policy Act (NEPA).

A draft EA has been prepared to examine whether significant environmental impacts could result from issuance of the proposed scientific research permit. The draft EA is available for review and comment simultaneous with the scientific research permit application.

Concurrent with the publication of this notice in the Federal Register, NMFS is forwarding copies of these applications to the Marine Mammal Commission and its Committee of Scientific Advisors.

Dated: February 17, 2005.
Stephen L. Leathery,
Chief, Permits, Conservation and Education Division, Office of Protected Resources, National Marine Fisheries Service.

[FR Doc. 05-3584 Filed 2-23-05; 8:45 am]

BILLING CODE 3510-22-S